DEPARTMENT OF THE INTERIOR

National Park Service

[NPS-WASO-NAGPRA-NPS0035569; PPWOCRADN0-PCU00RP14.R50000]

Notice of Inventory Completion: Mütter Museum of the College of Physicians of Philadelphia; Philadelphia, PA

AGENCY: National Park Service, Interior.

ACTION: Notice.

SUMMARY: In accordance with the Native American Graves Protection and Repatriation Act (NAGPRA), the Mütter Museum of the College of Physicians of Philadelphia has completed an inventory of human remains, in consultation with the appropriate Indian Tribes or Native Hawaiian organizations, and has determined that there is no cultural affiliation between the human remains and any present-day Indian Tribes or Native Hawaiian organizations. The human remains were removed from New Jersey.

DATES: Disposition of the human remains in this notice may occur on or after May 4, 2023.

ADDRESSES: Kate Quinn, Executive Director, Mütter Museum and Historic Medical Library, College of Physicians of Philadelphia, 19 S 22nd Street, Philadelphia, PA 19103, telephone (267) 807-1924 Ext. 1924, email kquinn@collegeofphysicians.org.

SUPPLEMENTARY INFORMATION: This notice is published as part of the National Park Service's administrative responsibilities under NAGPRA. The determinations in this notice are the sole responsibility of the Mütter Museum of the College of Physicians of Philadelphia. The National Park Service is not responsible for the determinations in this notice. Additional information on the determinations in this notice, including the results of consultation, can be found in the inventory or related records held by the Mütter Museum of the College of Physicians of Philadelphia.

Description

At an unknown date, human remains representing, at minimum, six individuals were removed from New Jersey. The human remains consist of a skull (F1996.135) belonging to one individual; two mandibles (F1996.132, F1996.133) belonging to two individuals; occipital fragments (F1996.134) belonging to one individual; and skull fragments (F1996.136, F1996.137) belonging to two individuals. The original collector of these human remains was Dr. Matthew Cryer, M.D., D.D.S. Whether Dr. Cryer removed these human remains himself or acquired them from another person or entity is unknown. On December 23, 1938, Dr. Cryer donated these human remains to the Mutter Museum. No known individuals were identified. No associated funerary objects are present.

Aboriginal Land

The human remains and associated funerary objects in this notice were removed from known geographic locations. Historical documents and consultation information demonstrate that these locations are the aboriginal lands of one or more Indian Tribes. The following information was used to identify the aboriginal land: a treaty.

Determinations

Pursuant to NAGPRA and its implementing regulations, and after consultation with the appropriate Indian Tribes, the Mütter Museum of the College of Physicians of Philadelphia has determined that:

• The human remains described in this notice represent the physical remains of six individuals of Native American ancestry.

• No relationship of shared group identity can be reasonably traced between the human remains and any Indian Tribe.

• Based on the Treaty of Fort Pitt, signed on September 17, 1778, the area from which the human remains described in the notice were removed is the aboriginal land of the Lenape people, who are represented by the Delaware Nation, Oklahoma; Delaware Tribe of Indians; and the Stockbridge Munsee Community, Wisconsin.

Requests for Disposition

Written requests for disposition of the human remains in this notice must be sent to the Responsible Official identified in ADDRESSES (see above). Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains described in this notice to a requestor may occur on or after May 4, 2023. If competing requests for disposition are received, the Mütter Museum of the College of Physicians of Philadelphia must determine the most appropriate requestor prior to disposition. Requests for joint disposition of the human remains are considered a single request and not competing requests. The Mütter Museum of the College of Physicians of Philadelphia is responsible for sending a copy of this notice to the Indian Tribes identified in this notice.

Authority: Native American Graves Protection and Repatriation Act, 25 U.S.C. 3003, and the implementing regulations, 43 CFR 10.9 and 10.11.

Dated: March 22, 2023.
Melanie O'Brien,
Manager, National NAGPRA Program.

[FR Doc. 2023-06910 Filed 4-3-23; 8:45 am]

BILLING CODE 4312-52-P